DEPARTMENT OF LABOR

Employment and Training Administration

[TA-W-65,216]

H&H Trailer Company, Including On-Site Workers From Brandon Hall; Clarinda, IA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 25, 2009, applicable to workers of H&H Trailer Company, Clarinda, Iowa. The notice was published in the Federal Register on March 19, 2009 (74 FR 11757).

At the request of the State agency, the Department reviewed the certification for workers of the subject firm. The workers were engaged in the production of trailers.

New information shows that workers from Brandon Hall were employed on-site to provide hauling services for the Clarinda, Iowa location of H&H Trailer Company. The Department has determined that these workers were sufficiently under the control and in support of H&H Trailer Company, Clarinda, Iowa to be included in the certification determination established for the subject firm.

Based on these findings, the Department is amending this certification to include workers from Brandon Hall working on-site at the Clarinda, Iowa location of H&H Trailer Company.

The amended notice applicable to TA-W-65,216 is hereby issued as follows:

All workers of H&H Trailer Company, including on-site workers from Brandon Hall, Clarinda, Iowa, who became totally or partially separated from employment on or after February 10, 2008 through February 25, 2011, are eligible to apply for adjustment assistance under Section 223 of the Trade Act of 1974, and are also eligible to apply for alternative trade adjustment assistance under Section 246 of the Trade Act of 1974.

Signed at Washington, DC, this 8th day of October 2009.
Elliott S. Kushner,
Certifying Officer, Division of Trade Adjustment Assistance.

[FR Doc. E9-25147 Filed 10-19-09; 8:45 am]

BILLING CODE 4510-FN-P